SECURITIES AND EXCHANGE COMMISSION

[File No. 500-1]

Consolidated Energy, Inc., Diamond Home Services, Inc., Goran Capital Inc., Kingsley Coach, Inc. (The), Knockout Holdings, Inc., and Kuhlman Co., Inc.; Order of Suspension of Trading

August 18, 2011.

It appears to the Securities and Exchange Commission that there is a lack of current and accurate information concerning the securities of Consolidated Energy, Inc. because it has not filed any periodic reports since the period ended September 30, 2006.

It appears to the Securities and Exchange Commission that there is a lack of current and accurate information concerning the securities of Diamond Home Services, Inc. because it has not filed any periodic reports since the period ended September 30, 1999.

It appears to the Securities and Exchange Commission that there is a lack of current and accurate information concerning the securities of Goran Capital Inc. because it has not filed any periodic reports since the period ended March 31, 2003.

It appears to the Securities and Exchange Commission that there is a lack of current and accurate information concerning the securities of Kingsley Coach, Inc. (The) because it has not filed any periodic reports since the period ended March 31, 2006.

It appears to the Securities and Exchange Commission that there is a lack of current and accurate information concerning the securities of Knockout Holdings, Inc. because it has not filed any periodic reports since the period ended June 30, 2006.

It appears to the Securities and Exchange Commission that there is a lack of current and accurate information concerning the securities of Kuhlman Co., Inc. because it has not filed any periodic reports since the period ended October 28, 2006.

The Commission is of the opinion that the public interest and the protection of investors require a suspension of trading in the securities of the above-listed companies. Therefore, it is ordered, pursuant to Section 12(k) of the Securities Exchange Act of 1934, that trading in the securities of the above-listed companies is suspended for the period from 9:30 a.m. EDT on August 18, 2011, through 11:59 p.m. EDT on August 31, 2011.

By the Commission.
Jill M. Peterson,
Assistant Secretary.

[FR Doc. 2011-21480 Filed 8-18-11; 4:15 pm]

BILLING CODE 8011-01-P